DEPARTMENT OF COMMERCE

Foreign-Trade Zones Board

[Order No. 1695]

Expansion of Foreign-Trade Zone 152, Burns Harbor, Indiana

Pursuant to its authority under the Foreign-Trade Zones (FTZ) Act of June 18, 1934, as amended (19 U.S.C. 81a-81u), the Foreign-Trade Zones Board (the Board) adopts the following Order:

Whereas, the Ports of Indiana, grantee of Foreign-Trade Zone No. 152, submitted an application to the Board for authority to expand FTZ 152 in the Burns Harbor, Indiana, area, within the Chicago Customs and Border Protection port of entry (FTZ Docket 56-2009, filed 12/14/2009);

Whereas, notice inviting public comment was given in the Federal Register (74 FR 69329, 12/31/2009) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 152 is approved, subject to the Act and the Board's regulations, including Section 400.28. Signed at Washington, DC, this 8th day of July 2010.

Ronald K. Lorentzen,
Deputy Assistant Secretary for Import Administration, Alternate Chairman, Foreign-Trade Zones Board.
Attest:
Andrew McGilvray,
Executive Secretary.

[FR Doc. 2010-17707 Filed 7-19-10; 8:45 am]

BILLING CODE 3510-DS-S